DEPARTMENT OF STATE

[Public Notice: 10018]

In the Matter of the Designation of Abu Nidal Organization, Also Known as ANO, Also Known as Black September, Also Known as the Fatah Revolutionary Council, Also Known as the Arab Revolutionary Council, Also Known as the Arab Revolutionary Brigades, Also Known as the Revolutionary Organization of Socialist Muslims as a Specially Designated Global Terrorist Pursuant Section 1(b) of Executive Order 13224, as Amended

In accordance with section 1(b) of Executive Order 13224 of September 23, 2001, as amended (“the Order”), I hereby determine that the organization known the Abu Nidal Organization no longer meets the criteria for designation under the Order, and therefore I hereby revoke the designation of the aforementioned organization as a Specially Designated Global Terrorist pursuant to section 1(b) of the Order.

This determination shall be published in the Federal Register.

Dated: May 10, 2017.
Rex W. Tillerson,
Secretary of State.

[FR Doc. 2017-11443 Filed 6-1-17; 8:45 am]

BILLING CODE 4710-AD-P